DEPARTMENT OF THE INTERIOR

National Park Service

Anacostia Park General Management Plan; Public Notice

In accordance with section 102(2)(c) of the National Environmental Policy Act of 1969, the National Park Service (NPS) is preparing an Environmental Impact Statement (EIS) to assess the impacts of alternative management strategies for the General Management Plan (GMP) for Anacostia Park, Washington, DC.

The GMP/EIS will evaluate a range of alternatives that address cultural and natural resources protection, socioeconomic concerns, traffic and pedestrian circulation, and visitor use.

Public involvement will be a key component in the preparation of the GMP/EIS.

As part of the Anacostia Waterfront Initiative (AWI), NPS is conducting a GMP for Anacostia Park. This riverine park is composed of a series of 8 areas that are better known by their individual names. They are Kenilworth Aquatic Gardens, Kenilworth Park, River Terrace, Fairlawn/Twining, Boathouse Row, Robert F. Kennedy (RFK) Stadium Shoreline, the Arboretum Shoreline and Langston Golf Course. All of these areas lay along the Anacostia River between the 11th Street Bridges and the Maryland State line. The areas are collectively named and managed as Anacostia Park. The purpose of this GMP/EIS is to give vision and unity of purpose as well as functional specificity these areas.

A separate planning effort is being undertaken for Poplar Point. This is an area of approximately 100 acres that involves lands under the jurisdiction of NPS and the District of Columbia. Sixty acres of this is composed of lands transferred to NPS in 1984 from the Architect of the Capitol and the District of Columbia that had used these properties for plant nursery purposes for 65 years. The Act of Congress which transferred these lands provided for a joint planning process between the Secretary of the Interior and the Mayor of the District of Columbia which was to include transportation facilities related to the Metro stop and other uses to be determined by the planning process. Although this area will become part of the family of parks that are a part of Anacostia Park, its unique circumstance at this point in time requires a separate planning process as part of the AWI. The plan will also be accompanied by an EIS.

The RFK Stadium and its parking lots are on lands under the jurisdiction of NPS but are leased to the District of Columbia for 49 years with another 49-year renewable clause as provided for in Public Law 85-300 as amended (September 7, 1957). This law retained a strip of land, a minimum of 200-feet wide, along the shoreline as parkland that will be addressed as part of the GMP/EIS. The remainder of the RFK Stadium property will be included in the AWI planning.

The responsible official is Terry R. Carlstrom, Regional Director, National Capital Region, NPS. Written comments should be submitted to Superintendent of National Capital Parks—East, 1900 Anacostia Drive, SE., Washington, DC—20020.

Terry R. Carlstrom,
Regional Director, National Capital Region.

[FR Doc. 01-16544 Filed 6-29-01; 8:45 am]

BILLING CODE 4310-70-P